DEPARTMENT OF THE TREASURY

Submission for OMB Review; Comment Request

July 1, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 13, 2004, to be assured of consideration.

Alcohol and Tobacco Tax and Trade Bureau (TTB)

OMB Number: 1513-0036.

Form Number: TTB F 5100.1.

Type of Review: Extension.

Title: Signing Authority for Corporate Officials.

Description: TTB F 5100.1 is substituted instead of a regulatory requirement to submit corporate documents or minutes of a meeting of the Board of Directors to authorize an individual or office to sign for the corporation in TTB matters. The form identifies the corporation, the individual or office authorized to sign, and documents the authorization.

Respondents: Business of other for-profit.

Estimated Number of Respondents: 1,000.

Estimated Burden Hours Per Respondent: 15 minutes.

Frequency of Response: On occasion.

Estimated Total Reporting Burden: 250 hours.

OMB Number: 1513-0041.

Form Number: TTB F 5110.28.

Recordkeeping Requirement ID Number: TTB REC 5110/03.

Type of Review: Extension.

Title: Distilled Spirits Plant Monthly Report of Processing Operations.

Description: The information collection is necessary to account for and verify the processing of distilled spirits in bond. It is used to audit plant operations, monitor industry activities for efficient allocation of personnel resources and the compilation of statistics.

Respondents: Business of other for-profit, State, Local or Tribal Government.

Estimated Number of Respondents/Recordkeepers: 134.

Estimated Burden Hours Per Respondent/Recordkeeper: 2 hours.

Frequency of Response: Monthly.

Estimated Total Reporting/Recordkeeping Burden: 3,886 hours.

OMB Number: 1513-0113.

Form Number: TTB F 5360.5R and TTB F 5630.5RC.

Type of Review: Extension.

Title: TTB F 5360.5R: Special Tax Renewal Registration and Return; and TTB F 5630.5RC: Special Tax Location Registration Listing.

Description: 26 U.S.C. Chapters 51, 52 and 53 authorize collection of special taxes from persons engaging in certain businesses. TTB Forms 5630.5R and 5630.5RC are used to compute tax and as an application for registry.

Respondents: Business of other for-profit.

Estimated Number of Respondents: 350,000.

Estimated Burden Hours Per Respondent: 15 minutes.

Frequency of Response: On occasion.

Estimated Total Reporting Burden: 100,500 hours.

Clearance Officer: William H. Foster, Alcohol and Tobacco Tax and Trade Bureau, Room 200 East, 1310 G Street, NW., Washington, DC 20005, (202) 927-8210.

OMB Reviewer: Joseph F. Lackey, Jr., Office of Management and Budget, Room 10235, New Executive Office Building, Washington, DC 20503, (202) 395-7316.

Lois K. Holland,
Treasury PRA Clearance Officer.

[FR Doc. 04-15930 Filed 7-13-04; 8:45 am]

BILLING CODE 4810-31-P